DEPARTMENT OF TRANSPORTATION

Federal Aviation Administration

14 CFR Part 39

[Docket No. FAA-2011-1062; Directorate Identifier 2011-NM-038-AD; Amendment 39-16907; AD 2011-27-05]

RIN 2120-AA64

Airworthiness Directives; Saab AB, Saab Aerosystems Airplanes

AGENCY: Federal Aviation Administration (FAA), Department of Transportation (DOT).

ACTION: Final rule.

SUMMARY: We are superseding an existing airworthiness directive (AD) for all Saab AB, Saab Aerosystems Model 340A (SAAB/SF340A) and SAAB 340B airplanes. That AD currently requires an inspection of the main landing gear (MLG) separation bolt harness for broken wires and corroded connectors, and corrective actions if necessary; and for certain airplanes, a modification of the MLG separation bolt's electrical harness. This new AD requires replacement of the separation bolt harness. This AD was prompted by reports of broken wires and corroded connectors in the SAAB 340 MLG emergency release system. We are issuing this AD to prevent improper release of the MLG during an emergency situation, possibly resulting in damage to the airplane during landing and injury to the occupants.

DATES: This AD becomes effective February 7, 2012.

The Director of the Federal Register approved the incorporation by reference of a certain publication listed in this AD as of February 7, 2012.

The Director of the Federal Register approved the incorporation by reference of certain other publications listed in this AD as of July 29, 2004 (69 FR 35235, June 24, 2004).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on October 11, 2011 (76 FR 62656), and proposed to supersede AD 2004-12-03, Amendment 39-13662 (69 FR 35235, June 24, 2004). That NPRM proposed to correct an unsafe condition for the specified products. The MCAI states:

In 2003, a number of reports had been received concerning broken wires and corroded connectors in the SAAB 340 main landing gear (MLG) emergency release system. The investigation results showed that these were due to improper repairs and installations, not conforming to the approved type design.

This condition, if not corrected, could inhibit the functioning of the separation bolt, preventing proper release of the MLG during an emergency situation, possibly resulting in damage to aeroplane during landing and injury to the occupants.

To address that unsafe condition, Swedish AD (SAD) 1-186 was issued to require an inspection and, depending on findings, corrective action, in accordance with SAAB Service Bulletin (SB) 340-32-127.

Subsequently, Saab introduced a modification to ensure correct functioning of the MLG emergency release system. Accomplishment of that modification (SAAB SB 340-32-128) was made mandatory by SAD 1-189 [which corresponds to FAA AD 2004-12-03 Amendment 39-13662 (69 FR 35235, June 24, 2004)].

Since that [SAD] AD was issued, service experience has shown that this modification does not fully meet the expected results.

Prompted by these findings, SAAB has developed an improved separation bolt harness with a new routing.

For the reasons described above, this [EASA] AD requires replacement of the current separation bolt harness Part Number (P/N) 7292520-678 with the improved unit, P/N 7292520-691.

You may obtain further information by examining the MCAI in the AD docket.

Comments

We gave the public the opportunity to participate in developing this AD. We received no comments on the NPRM (76 FR 62656, October 11, 2011) or on the determination of the cost to the public.

Conclusion

We reviewed the relevant data and determined that air safety and the public interest require adopting the AD as proposed except for minor editorial changes. We have determined that these minor changes:

• Are consistent with the intent that was proposed in the NPRM (76 FR 62656, October 11, 2011) for correcting the unsafe condition; and

• Do not add any additional burden upon the public than was already proposed in the NPRM (76 FR 62656, October 11, 2011).

Differences Between This AD and the Mandatory Continuing Airworthiness Information (MCAI) or Service Information

This AD differs from the MCAI and/or service information as follows: Although the MCAI states not to install a separation bolt having P/N 7292520-678 on any airplane after modification of the airplane, this AD states not to install a separation bolt having P/N 7292520-678 on any airplane as of the effective date of this AD.

Costs of Compliance

We estimate that this AD will affect about 111 products of U.S. registry.

The actions that are required by AD 2004-12-03, Amendment 39-13662 (69 FR 35235, June 24, 2004), and retained in this AD take about 6 work-hours per product, at an average labor rate of $85 per work-hour. Required parts cost about $1,475 per product. Based on these figures, the estimated cost of the currently required actions is 1,985 per product.

We estimate that it will take about 10 work-hours per product to comply with the new basic requirements of this AD. The average labor rate is $85 per work-hour. Required parts will cost about $1,790 per product. Where the service information lists required parts costs that are covered under warranty, we have assumed that there will be no charge for these parts. As we do not control warranty coverage for affected parties, some parties may incur costs higher than estimated here. Based on these figures, we estimate the cost of this AD to the U.S. operators to be $96,140, or $2,640 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 62656, October 11, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13662 (69 FR 35235, June 24, 2004) and adding the following new AD:

2011-27-05 Saab AB, Saab Aerosystems: Amendment 39-16907. Docket No. FAA-2011-1062; Directorate Identifier 2011-NM-038-AD.

(a) Effective Date

This airworthiness directive (AD) becomes effective February 7, 2012.

(b) Affected ADs

This AD supersedes AD 2004-12-03, Amendment 39-13662 (69 FR 35235, June 24, 2004).

(c) Applicability

This AD applies to Saab AB, Saab Aerosystems Model 340A (SAAB/SF340A) and SAAB 340B airplanes, all serial numbers, certificated in any category.

(d) Subject

Air Transport Association (ATA) of America Code 32: Landing gear.

(e) Reason

This AD was prompted by reports of broken wires and corroded connectors in the SAAB 340 MLG emergency release system. We are issuing this AD to prevent improper release of the MLG during an emergency situation, possibly resulting in damage to the airplane during landing and injury to the occupants.

(f) Compliance

You are responsible for having the actions required by this AD performed within the compliance times specified, unless the actions have already been done.

Restatement of Requirements of AD 2004-12-03, Amendment 39-13662 (69 FR 35235, JUNE 24, 2004), With Changes

(g) Inspection

Within 3 months after July 29, 2004 (the effective date of AD 2004-12-03, Amendment 39-13662 (69 FR 35235, June 24, 2004)), perform an inspection of the MLG's separation bolt harness for broken wires and corroded connectors, and any applicable corrective actions by doing all of the actions, in accordance with the Accomplishment Instructions of Saab Service Bulletin 340-32-127, dated December 18, 2002; or Revision 01, dated January 23, 2003. Perform the inspection/corrective actions in accordance with Saab Service Bulletin 340-32-127, dated December 18, 2002; or Revision 01, dated January 23, 2003. Perform any applicable corrective actions before further flight.

(h) Concurrent Service Bulletins

For Model SAAB SF340A series airplanes: Within 12 months after July 29, 2004, do the actions specified in table 1 of this AD, as applicable.

Table 1—Prior/Concurrent Actions
For airplanes with serial numbers— | Accomplish all actions associated with— | According to the accomplishment instructions of—
004 through 108 inclusive | Modifying the MLG separation bolt's electrical harness | Saab Service Bulletin 340-32-041, Revision 01, dated October 9, 1987.
004 through 078 inclusive | Modifying the MLG separation bolt's electrical harness | Saab Service Bulletin 340-32-028, Revision 01, dated November 25, 1986.

(i) New Requirements of This AD

Within 12 months after the effective date of this AD: Replace the separation bolt harnesses having part number (P/N) 7292520-678 with separation bolt harnesses having P/N 7292520-691, in accordance with the Accomplishment Instructions of Saab Service Bulletin 340-32-139, Revision 01, dated November 1, 2010.

(j) Parts Installation

As of the effective date of this AD, no person may install a separation bolt harness having P/N 7292520-678, on any airplane.

(k) Credit for Actions Accomplished in Accordance With Previous Service Information

Actions done before the effective date of this AD in accordance with Saab Service Bulletin 340-32-139, dated January 12, 2010, are acceptable for compliance with the requirements of paragraph (i) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI EASA Airworthiness Directive 2011-0003, dated January 17, 2011, and the service information specified in paragraphs (m)(1) through (m)(5) of this AD, as applicable, for related information.

(1) Saab Service Bulletin 340-32-139, Revision 01, dated November 1, 2010.

(2) Saab Service Bulletin 340-32-127, dated December 18, 2002.

(3) Saab Service Bulletin 340-32-127, Revision 01, dated January 23, 2003.

(4) Saab Service Bulletin 340-32-041, Revision 01, dated October 9, 1987.

(5) Saab Service Bulletin 340-32-028, Revision 01, dated November 25, 1986.

(n) Material Incorporated by Reference

(1) You must use the following service information to do the actions required by this AD, unless the AD specifies otherwise. The Director of the Federal Register approved the incorporation by reference (IBR) of the following service information under 5 U.S.C. 552(a) and 1 CFR part 51 on the date specified:

(i) Saab Service Bulletin 340-32-028, Revision 01, dated November 25, 1986, approved for IBR July 29, 2004 (69 FR 35235, June 24, 2004).

(ii) Saab Service Bulletin 340-32-041, Revision 01, dated October 9, 1987, approved for IBR July 29, 2004 (69 FR 35235, June 24, 2004).

(iii) Saab Service Bulletin 340-32-127, dated December 18, 2002, approved for IBR July 29, 2004 (69 FR 35235, June 24, 2004).

(iv) Saab Service Bulletin 340-32-127, Revision 01, dated January 23, 2003, approved for IBR July 29, 2004 (69 FR 35235, June 24, 2004).

(v) Saab Service Bulletin 340-32-139, Revision 01, dated November 1, 2010, approved for IBR February 7, 2012.

(2) For service information identified in this AD, contact Saab AB, Saab Aerosystems, SE-581 88, Linköping, Sweden; telephone +46 13 18 5591; fax +46 13 18 4874; email saab2000.techsupport@saabgroup.com; Internet http://www.saabgroup.com.

(3) You may review copies of the service information at the FAA, Transport Airplane Directorate, 1601 Lind Avenue SW., Renton, Washington. For information on the availability of this material at the FAA, call (425) 227-1221.

(4) You may also review copies of the service information that is incorporated by reference at the National Archives and Records Administration (NARA). For information on the availability of this material at an NARA facility, call (202) 741-6030, or go to http://www.archives.gov/federal_register/code_of_federal_regulations/ibr_locations.html.

Issued in Renton, Washington, on December 23, 2011.
John P. Piccola,
Acting Manager, Transport Airplane Directorate, Aircraft Certification Service.

[FR Doc. 2011-33565 Filed 12-30-11; 8:45 am]

BILLING CODE 4910-13-P